DEPARTMENT OF ENERGY

Federal Energy Regulatory Commission

[Project No. 14061-000]

Arizona Independent Power, Inc.; Notice of Preliminary Permit Application Accepted for Filing and Soliciting Comments, Motions To Intervene, and Competing Applications

On January 12, 2011, Arizona Independent Power, Inc. filed an application for a preliminary permit, pursuant to section 4(f) of the Federal Power Act (FPA), proposing to study the feasibility of the Verde Pumped Storage Project (project) to be located within the Colorado River region, near Maricopa County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) A roller compacted concrete dam (upper reservoir) having a total storage capacity of 13,900 acre-feet at a normal maximum operating elevation of 3,040 feet msl; (2) a roller compacted concrete dam (lower reservoir) having a total storage capacity of 13,900 acre-feet at a normal maximum operating elevation of 1,800 feet mean sea level (msl); (3) two 12,160-foot-long, 19-foot-diameter penstocks; (4) a powerhouse with approximate dimensions of 750 feet long by 70 feet wide by 175 feet high, housing three to 267 megawatt Francis pump turbines and motor generators units; (5) two 3,000-foot-long, 21-foot-diameter tailraces; (6) a twin circuit, 40-mile-long, 500-kilovolt transmission line extending to the existing transmission line rights-of-way owned by the Arizona Public Service Company or Salt River Project. The estimated annual generation of the Verde Pumped Storage Project would be 1,078 gigawatt-hours.

Applicant Contact: Mr. Frank L. Mazzone, President, Arizona Independent Power, Inc., 957 Fairway Drive, Sonoma, CA 95476; phone: (707) 996-2573.

FERC Contact: Mary Greene; phone: (202) 502-8865.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14061-000) in the docket number field to access the document. For assistance, contact FERC Online Support.

Dated: April 15, 2011.
Kimberly D. Bose,
Secretary.

[FR Doc. 2011-9792 Filed 4-21-11; 8:45 am]

BILLING CODE 6717-01-P